NUCLEAR REGULATORY COMMISSION

[Docket No. 52-026; NRC-2008-0252]

Southern Nuclear Operating Company, Inc.,Vogtle Electric Generating Plant, Unit 4, Electrical Inspections, Tests, Analyses, and Acceptance Criteria Optimization

AGENCY: Nuclear Regulatory Commission.

ACTION: Exemption and combined license amendment; issuance.

SUMMARY: The U.S. Nuclear Regulatory Commission (NRC) is granting an exemption to allow a departure from the Tier 1 information in the plant-specific design control document (DCD) and is issuing License Amendment No. 187 to Combined License (COL) NPF-92. The COL was issued to Southern Nuclear Operating Company, Inc. (SNC); Georgia Power Company; Oglethorpe Power Corporation; MEAG Power SPVM, LLC; MEAG Power SPVJ, LLC; MEAG Power SPVP, LLC; and the City of Dalton, Georgia; for the Vogtle Electric Generating Plant (VEGP) Unit 4, located in Burke County, Georgia. SNC is the entity that is licensed to construct and operate VEGP Unit 4.

The granting of the exemption allows the departure from Tier 1 information asked for in the amendment. Because the acceptability of the exemption was determined in part by the acceptability of the amendment, the exemption and amendment are being issued concurrently.

DATES: The exemption and amendment were issued on November 22, 2022.

ADDRESSES: Please refer to Docket ID NRC-2008-0252 when contacting the NRC about the availability of information regarding this document. You may obtain publicly available information related to this document using any of the following methods:

• Federal Rulemaking Website: Go to https://www.regulations.gov and search for Docket ID NRC-2008-0252. Address questions about Docket IDs in Regulations.gov to Stacy Schumann; telephone: 301-415-0624; email: Stacy.Schumann@nrc.gov. For technical questions, contact the individual listed in the For Further Information Contact section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to PDR.Resource@nrc.gov. The ADAMS accession number for each document referenced (if it is available in ADAMS) is provided the first time that it is mentioned in this document.

• NRC's PDR: You may examine and purchase copies of public documents, by appointment, at the NRC's PDR, Room P1 B35, One White Flint North, 11555 Rockville Pike, Rockville, Maryland 20852. To make an appointment to visit the PDR, please send an email to PDR.Resource@nrc.gov or call 1-800-397-4209 or 301-415-4737, between 8:00 a.m. and 4:00 p.m. Eastern Time (ET), Monday through Friday, except Federal holidays.

FOR FURTHER INFORMATION CONTACT: William “Billy” Gleaves, Vogtle Project Office, Office of Nuclear Reactor Regulation, U.S. Nuclear Regulatory Commission, Washington, DC 20555-0001; telephone: 301-415-5848; email: Bill.Gleaves@nrc.gov.

SUPPLEMENTARY INFORMATION:

I. Introduction

The NRC is issuing License Amendment No. 187 to COL NPF-92, and is granting an exemption to allow a departure from Tier 1 information in the plant-specific DCD for VEGP Unit 4. The generic AP1000 DCD is incorporated by reference in appendix D, “Design Certification Rule for the AP1000,” to part 52 of title 10 of the Code of Federal Regulations (10 CFR). The exemption, granted pursuant to paragraph A.4 of section VIII, “Processes for Changes and Departures,” of 10 CFR part 52, appendix D, allows the licensee to depart from the plant-specific Tier 1 information. With the requested amendment, SNC sought changes from the Tier 1 requirements in the VEGP Unit 4 plant-specific Tier 1 information and COL appendix C that remove certain Inspections, Tests, Analyses, and Acceptance Criteria (ITAAC) that are duplicated by other ITAAC and consolidate a number of other certain ITAAC. The license amendment as issued deletes ITAAC Nos. 26 (2.1.02.07b), 83 (2.1.03.09b), 103 (2.2.01.06b), 172 (2.2.03.07b), 233 (2.2.04.07b), 263 (2.2.05.06a), 296 (2.3.02.06b), 368 (2.3.06.07b), 399 (2.3.07.06a), 878 (2.3.10.11a), 467 (2.3.13.06b), 527 (2.5.02.05a), 582 (2.6.01.03a), and 687 (2.7.01.06a) in COL appendix C and plant-specific DCD Tier 1 information. In addition to deleting ITAAC, the license amendment consolidates requirements from certain ITAAC into a subsuming ITAAC as follows: ITAAC Nos. 789 (3.3.00.07aa), 792 (3.3.00.07ba), 803 (3.3.00.07x.iii.a), 806 (3.3.00.07d.iv.a), and 809 (3.3.00.07d.v.a) are subsumed into ITAAC Index No. 800 (3.3.00.07d.ii.a) and ITAAC Nos. 790 (3.3.00.07ab), 793 (3.3.00.07bb), 804 (3.3.00.07d.iii.b), 807 (3.3.00.07d.iv.b), and 810 (3.3.00.07d.v.b) are subsumed into ITAAC Index No. 801 (3.3.00.07d.ii.b), and ITAAC Index Nos. 791 (3.3.00.07ac), 794(3.3.00.07bc), 805 (3.3.00.07d.iii.c), 808 (3.3.00.07d.iv.c), and 811 (3.3.00.07d.v.c) are subsumed into ITAAC Index No. 802 (3.3.00.07d.ii.c).

Part of the justification for granting the exemption was provided by the review of the amendment. Because the exemption is necessary in order to issue the requested license amendment, the NRC granted the exemption and issued the amendment concurrently, rather than in sequence. This included issuing a combined safety evaluation containing the NRC staff's review of both the exemption request and the license amendment. The exemption met all applicable regulatory criteria set forth in §§ 50.12, 52.7, 52.63, and section VIII.A.4 of appendix D to 10 CFR part 52. The license amendment was found to be acceptable as well. The combined safety evaluation is available in ADAMS under Accession No. ML22284A133.

An exemption document was issued to SNC for VEGP Unit 4 (COL NPF-92). The exemption document for VEGP Unit 4 can be found in ADAMS under Accession No. ML22284A132. The exemption is reproduced (with the exception of abbreviated titles and additional citations) in Section II of this document. The amendment document for VEGP COL NPF-92 is available in ADAMS under Accession No. ML22284A131. A summary of the amendment document is provided in Section III of this document.

II. Exemption

Reproduced in this document is the exemption document issued to VEGP Unit 4. It makes reference to the combined safety evaluation that provides the reasoning for the findings made by the NRC (and listed under Item 1) in order to grant the exemption:

1. In a letter dated September 2, 2022, Southern Nuclear Operating Company (SNC) requested from the Nuclear Regulatory Commission (NRC or Commission) an exemption to allow departures from plant-specific Tier 1 information as part of license amendment request (LAR) 22-003, “Electrical Inspections, Tests, Analyses, and Acceptance Criteria (ITAAC) Optimization.”

For the reasons set forth in Section 3.2 of the NRC staff's combined safety evaluation, which can be found at ADAMS Accession No. ML22284A133, the Commission finds that:

A. the exemption is authorized by law;

B. the exemption presents no undue risk to public health and safety;

C. the exemption is consistent with the common defense and security;

D. special circumstances are present in that the application of the rule in this circumstance is not necessary to serve the underlying purpose of the rule;

E. the special circumstances outweigh any decrease in safety that may result from the reduction in standardization caused by the exemption; and

F. the exemption will not result in a significant decrease in the level of safety otherwise provided by the design.

2. Accordingly, SNC is granted an exemption to allow a departure from the plant-specific Tier 1 information, with corresponding changes to Appendix C of the Facility Combined License, as described in the licensee's request dated September 2, 2022. This exemption is related to, and necessary for, the granting of License Amendment No. 187 for Unit 4, which is being issued concurrently with this exemption.

3. As explained in Section 6.0 of the NRC staff's combined safety evaluation, this exemption meets the eligibility criteria for categorical exclusion set forth in 10 CFR 51.22(c)(9). Therefore, pursuant to 10 CFR 51.22(b), no environmental impact statement or environmental assessment needs to be prepared in connection with the issuance of the exemption.

4. This exemption is effective as of the date of its issuance.

III. License Amendment Request

By letter dated September 2, 2022 (ADAMS Accession No. ML22245A122), SNC requested that the NRC amend the COL for VEGP, Unit 4, COL NPF-92. The proposed amendment is described in Section I of this Federal Register notice.

For the reasons set forth in the NRC staff's combined safety evaluation, the Commission has determined for these amendments that the application complies with the standards and requirements of the Atomic Energy Act of 1954, as amended (the Act), and the Commission's rules and regulations. The Commission has made appropriate findings as required by the Act and the Commission's rules and regulations in 10 CFR chapter I, which are set forth in the license amendment.

A notice of consideration of issuance of amendment to the COL, a proposed no significant hazards consideration determination, and an opportunity for a hearing in connection with these actions, was published in the Federal Register on September 27, 2022 (87 FR 58540). No comments were received during the 30-day comment period. The NRC has made a final no significant hazards consideration determination as discussed in Section 4.0 of the NRC staff's combined safety evaluation.

The Commission has determined that these amendments satisfy the criteria for categorical exclusion in accordance with 10 CFR 51.22(c)(9). Therefore, pursuant to 10 CFR 51.22(b), no environmental impact statement or environmental assessment need be prepared for these amendments.

IV. Conclusion

Using the reasons set forth in the combined safety evaluation, the staff granted the exemption and issued the amendment that SNC requested on September 2, 2022. The exemption and amendment were issued on November 22, 2022, as part of a combined package to SNC (ADAMS Package Accession No. ML22284A125).

Dated: November 23, 2022.
For the Nuclear Regulatory Commission.
Victor E. Hall,
Director, Vogtle Project Office, Office of Nuclear Reactor Regulation.

[FR Doc. 2022-25994 Filed 11-28-22; 8:45 am]

BILLING CODE 7590-01-P